DEPARTMENT OF STATE

[Public Notice 5012]

Bureau of Educational and Cultural Affairs (ECA) Request for Grant Proposals: English Language Fellow Program for Academic Year 2006-2007

Announcement Type: Cooperative Agreement.

Funding Opportunity Number: ECA/A/L-06-01.

Catalog of Federal Domestic Assistance Number: 19.421.

Key Dates: Application Deadline: May 20, 2005.

Executive Summary: The Office of English Language Programs of the Bureau of Educational and Cultural Affairs announces an open competition for proposals to advance the Bureau's objectives through support of academic exchanges that will result in the improvement of English teaching capacity around the world and the enhancement of mutual understanding between the people of the United States and people overseas.

The English Language Fellow Program places American citizens holding advanced TEFL/TESL or Applied Linguistics degrees with teacher-training and/or materials development experience and recent graduates with TEFL/TESL Master's degrees in all regions of the world at universities, teacher-training institutions, ministries of education, bi-national centers and other related language education institutions for ten-month assignments. Pending the availability of FY 2006 Funds, the Bureau anticipates placement of approximately 120 English Language Fellows overseas in academic year 2006-2007. Public and private non-profit organizations meeting the provisions described in Internal Revenue Code section 26 U.S.C. 501 (c) (3) may submit proposals to administer and manage the English Language Fellow Program for academic year 2006-2007.

I. Funding Opportunity Description

Authority

Overall grant making authority for this program is contained in the Mutual Educational and Cultural Exchange Act of 1961, Public Law 87-256, as amended, also known as the Fulbright-Hays Act. The purpose of the Act is “to enable the Government of the United States to increase mutual understanding between the people of the United States and the people of other countries; to strengthen the ties which unite us with other nations by demonstrating the educational and cultural interests, developments, and achievements of the people of the United States and other nations * * * and thus to assist in the development of friendly, sympathetic and peaceful relations between the United States and the other countries of the world.” The funding authority for the program above is provided through legislation.

Purpose

The English Language Fellow Program places experienced American teacher trainers and recent TEFL/TESL Master's degree graduates in all regions of the world at universities, teacher-training institutions, ministries of education, bi-national centers and other related language education institutions for ten-month assignments. The Program provides an opportunity for American English language professionals to share their vast knowledge and skills overseas, to cultivate international teaching experience for Americans and to promote cross-cultural partnerships that will foster a better and firsthand understanding of the United States and its citizens. There are two levels of English Language Fellows:

1. English Language Fellows (formerly known as junior Fellows) are graduates who have received their TEFL/TESL M.A. degrees within the past seven years and who may or may not have prior overseas teaching experience. Fellows serve as full-time teachers of English as a Foreign Language (EFL). Normal teaching duties are 20 contact hours per week with additional work in teacher training, curriculum, and testing. Together these duties should not exceed 40 hours per week and should not include administrative work.

2. Senior English Language Fellows are experienced teacher trainers who have an M.A. or higher degree in TEFL/TESL or a closely related field and who have significant overseas teaching experience. Fellows serve as full-time teacher trainers and participants in the following program-related activities: teaching English for Specific Purposes (ESP) in a variety of professional fields, designing English as a Foreign Language (EFL) curricula materials, conducting program evaluation and testing, and organizing workshops and conferences.

The overarching goals of the English Language Fellow Program are to:

• Advance the Department of State's mutual understanding objectives;

• Enhance English teaching capacity overseas in order to provide foreign teachers and students with the communications skills they will need to participate in the global economy;

• Improve foreign teachers' and students' access to diverse perspectives on a broad variety of issues; and

• Give foreign teachers and students information that will enable them to better understand and convey concepts about American values, democratic representative government, free enterprise, and the rule of law.

Applicant Eligibility

• Applicants must be citizens of the United States.

• Fellow applicants must have received a Master's degree in TEFL/TESL within the last seven years.

• Senior Fellow applicants must have previous overseas teaching experience and a Master's degree or higher in TEFL/TESL, Applied Linguistics (or a related field).

Background

Since the events of September 11, 2001, the English Language Fellow Program has become a major public diplomacy tool for combating terrorism and democracy building. The program's funding and the number of participants have increased by more than 70% in the past three years with a high concentration of the placements in Muslim countries. The Bureau seeks to award grant funding to applicants with the ability to continue these objectives, incorporate lessons learned and build upon past successes in order to further expand the breadth of the program. A grant will be awarded to an organization or organizations that have the necessary infrastructure and experience conducting academic exchange programs. The timing of the grant award and the amount of funding for this program are subject to the availability of funds in fiscal year 2006.

The Bureau will accept proposals from single applicants or from those that have formed partnerships with qualified partners to implement specific tasks required to carry out the project.

Program Guidelines

The responsibilities of the organization administering the program range from promoting the English Language Fellow Program to providing logistical support and include:

• Conducting extensive and comprehensive promotion and advertisement of the Fellows Program;

• Recruiting the most qualified, experienced and brightest applicants for the English Language Fellow Program. The Bureau plans to select up to 120 English Language Fellows (approximately 80% will be English Language Fellows, 20% Senior English Language Fellows) for worldwide placement in AY 2006-2007;

• Hiring experienced and knowledgeable TEFL/TESL-qualified staff to recruit Fellows and to match Fellows' professional skills with specific projects in order to maximize Fellows' effectiveness and positive impact on in-country programs and their ability to help advance ECA's public diplomacy goals;

• Planning and conducting a pre-departure briefing for Fellows in Washington, DC;

• Providing fiscal management of program budgets;

• Providing travel and logistical support to embassies on behalf of Fellows' activities;

• Enrolling Fellows in the Bureau Accident and Sickness Program for Exchanges (ASPE), including submitting Fellows' health verification records to the Bureau for clearance;

• Monitoring Fellows programs, activities and participants;

• Conducting regional site visits;

• Developing an evaluation strategy designed to measure the impact and outcome of the program as well as the effectiveness of individual participants;

• Assisting the Bureau and designated posts sponsoring conferences with planning and implementation of up to five (5) overseas regional Fellow Mid-Year conferences;

• Maintaining information sharing activities (Web site, listserv, database) and disseminating alumni updates.

The responsibilities of the grantee organization are clearly detailed in the Project Objectives, Goals and Implementation (POGI). Due to the diverse responsibilities involved in administering the cooperative agreement, the Bureau welcomes the submission of proposals involving a consortium of grant-managing organizations. These organizations may be sub-grantees responsible for carrying out specific activities or components of the program such as recruitment, financial and logistical management, reporting requirements, pre-departure briefing, evaluations, etc.

The Office of English Language Programs and U.S. embassies are substantially involved in program roles and responsibilities. The U.S. embassies facilitate managing the Fellow Program in country while the Bureau provides overall program and policy design and direction that require substantial involvement at all levels of the Fellows Program. Under the auspices of the cooperative agreement, the role of the Bureau and the Department's regional geographic bureaus includes:

• Inviting U.S. embassies to submit English Language Fellow proposals;

• Reviewing and analyzing projects' viability in raising the academic standards of English Language teaching and in promoting the Bureau's public diplomacy goals;

• Analyzing the impact of projects on communities and the ability of prospective projects to meet community needs;

• Prioritizing and finalizing selection of projects for which grantee organization will recruit Fellow candidates;

• Reviewing candidates' qualifications and resumes, and monitoring projects, participants and program activities;

• Communicating with U.S. embassies to resolve program and Fellow issues;

• Reviewing reports about Fellow activities and projects in the field.

U.S. embassies submit proposals that have identified opportunities for partnerships with in-country host institutions in accordance with the guidance provided by the Bureau and the Department's regional geographical bureaus, and are responsible for managing the Fellow Program on the ground. The role of the U.S. embassies includes:

• Host institution selection, including evaluating security of prospective sites;

• Establishing viable partnerships with prospective in-country host institutions that have critical English language programming needs;

• Developing project proposals in consultation with in-country host institutions to be managed by Fellows;

• Reviewing applicants' qualifications and making final selections of Fellow candidates in consultation with in-country host institutions;

• Contacting Fellows prior to arrival to answer questions, manage expectations, and ensure that they have accurate information regarding housing, visa requirements, the security situation, etc.;

• Conducting Fellows' in-country orientation and security/safety briefing;

• Working to maximize participants' safety, security and well-being, locating and securing quality housing, ensuring that the Fellows' visa/residency status is adjusted immediately after arrival in host country to comply with host country immigration regulations; and acting as a direct point of contact;

• Conducting site visits and the monitoring of Fellows' programs and activities.

II. Award Information

Type of Award: Cooperative Agreement. Bureau's level of involvement in this program is listed under number I above.

Fiscal Year Funds: FY 2006 (Pending availability of funds).

Approximate Total Funding: $6,000,000.

Approximate Number of Awards: 1.

Approximate Average Award: $6,000,000.

Floor of Award Range: N/A.

Ceiling of Award Range: N/A.

Anticipated Award Date: Pending availability of funds, October 1, 2005.

Anticipated Project Completion Date: September 30, 2007.

Additional Information: Pending successful implementation of this program and the availability of funds in subsequent fiscal years, it is the Bureau's intent to renew this grant for two additional fiscal years before openly competing it again.

III. Eligibility Information

III.1. Eligible applicants: Proposals may be submitted by public and private non-profit organizations meeting the provisions described in Internal Revenue Code section 26 U.S. 501(c)(3).

III.2. Cost Sharing or Matching Funds: There is no minimum or maximum percentage required for this competition. However, the Bureau encourages applicants to provide maximum levels of cost sharing and funding in support of its programs. When cost sharing is offered, it is understood and agreed that the applicant must provide the amount of cost sharing as stipulated in its proposal and later included in an approved grant agreement. Cost sharing may be in the form of allowable direct or indirect costs. For accountability, the applicant must maintain written records to support all costs that are claimed as a contribution, as well as costs to be paid by the Federal government. Such records are subject to audit. The basis for determining the value of cash and in-kind contributions must be in accordance with OMB Circular A-110, (Revised), Subpart C.23—Cost Sharing and Matching. In the event the applicant does not provide the minimum amount of cost sharing as stipulated in the approved budget, Bureau's contribution will be reduced in like proportion.

III.3. Other Eligibility Requirements: Bureau grant guidelines require that organizations with less than four years of experience in conducting international exchanges be limited to $60,000 in Bureau funding. The Bureau anticipates awarding one grant, in an amount up to $6,000,000, to support program and administrative costs required to implement this exchange program. Therefore, organizations with less than four years experience in conducting international exchanges are ineligible to apply under this competition. The Bureau encourages applicants to provide maximum levels of cost sharing and funding in support of its programs.

IV. Application and Submission Information

Note: Please read the complete Federal Register announcement before sending inquiries or submitting proposals. Once the RFGP deadline has passed, Bureau staff may not discuss this competition with applicants until the proposal review process has been completed.

IV.1. Contact Information to Request an Application Package: Please contact the Office of English Language Programs, U.S. Department of State, SA-44, 301 4th Street, SW., Washington, DC 20547, telephone (202) 619-5878 and fax (202) 401-1250, or williamsoncj@state.gov to request a Solicitation Package. Please refer to the Funding Opportunity Number ECA/A/L-06-01 located at the top of this announcement when making your request.

The Solicitation Package contains the Proposal Submission Instruction (PSI) document, which consists of required application forms, and standard guidelines for proposal preparation. It also contains the Project Objectives, Goals and Implementation (POGI) document, which provides specific information, award criteria and budget instructions tailored to this competition.

Please specify Office of English Language Programs, Program Officer Catherine Williamson and refer to the Funding Opportunity Number ECA/A/L-06-01 located at the top of this announcement on all other inquiries and correspondence.

IV.2. To Download a Solicitation Package Via Internet: The entire Solicitation Package may be downloaded from the Bureau's Web site at: http://exchanges.state.gov/education/rfgps/menu.htm. Please read all information before downloading.

IV.3. Content and Form of Submission: Applicants must follow all instructions in the Solicitation Package. The original and 15 copies of the application should be sent per the instructions under IV.3e. “Submission Dates and Times” section below.

IV.3a. Applicants are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that the DUNS number is included in the appropriate box of the SF-424, which is part of the formal application package.

IV.3b. All proposals must contain an executive summary, proposal narrative and budget. Please Refer to the Solicitation Package. It contains the mandatory Proposal Submission Instructions (PSI) document and the Project Objectives, Goals and Implementation (POGI) document for additional formatting and technical requirements.

IV.3c. Applicants must have nonprofit status with the IRS at the time of application. If applicant's organization is a private nonprofit which has not received a grant or cooperative agreement from the Bureau in the past three years, or if the organization received nonprofit status from the IRS within the past four years, applicant must submit the necessary documentation to verify nonprofit status as directed in the PSI document. Failure to do so will cause the proposal to be declared technically ineligible.

IV.3d. Please take into consideration the following information when preparing your proposal narrative:

IV.3d.1. Adherence to All Regulations Governing the J Visa: Although the English Language Fellow program's goal is to place U.S. citizens in positions overseas and only very rarely is involved in bringing foreign citizens to the U.S., nonetheless the Bureau of Educational and Cultural Affairs is placing renewed emphasis on the secure and proper administration of Exchange Visitor (J visa) Programs and adherence by grantees and sponsors to all regulations governing the J visa. Therefore, proposals should demonstrate the applicant's capacity to meet all requirements governing the administration of the Exchange Visitor Programs as set forth in 22 CFR 62, including the oversight of Responsible Officers and Alternate Responsible Officers, screening and selection of program participants, provision of pre-arrival information and orientation to participants, monitoring of participants, proper maintenance and security of forms, recordkeeping, reporting and other requirements.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 401-9810, Fax: (202) 401-9809.

Please refer to Solicitation Package for further information.

IV.3d.2. Diversity, Freedom and Democracy Guidelines: Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the ‘Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation: Proposals must include a plan to monitor and evaluate the project's success, both as the activities unfold and at the end of the program. The Bureau recommends proposals include a draft survey questionnaire or other technique plus a description of a methodology to use to link outcomes to original project objectives. The Bureau expects that the applicant will track participants and partners and be able to respond to key evaluation questions, including satisfaction with the program, learning as a result of the program, changes in behavior as a result of the program, and effects of the program on institutions (institutions in which participants work or partner institutions). The evaluation plan should include indicators that measure gains in mutual understanding as well as substantive knowledge. Successful monitoring and evaluation depend heavily on setting clear goals and outcomes at the outset of a program. The evaluation plan should include a description of the project's objectives, anticipated project outcomes, and how and when these outcomes (performance indicators) will be measured. The more that outcomes are “smart” (specific, measurable, attainable, results-oriented, and placed in a reasonable time frame), the easier it will be to conduct the evaluation.

Applicants must also show how the project objectives link to the goals of the program described in this RFGP. The monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage applicants to assess the following four levels of outcomes, as they relate to the program goals set out in the RFGP (listed here in increasing order of importance):

• Participant satisfaction with the program and the exchange experience.

• Participant learning, such as increased knowledge, aptitude, skills, and changed understanding and attitude. Learning includes both substantive (subject-specific) learning and mutual understanding.

• Participant behavior, concrete actions to apply knowledge in work or community; greater participation and responsibility in civic organizations; interpretation and explanation of experiences and new knowledge gained; continued contacts between participants, community members, and others.

• Institutional changes, such as increased collaboration and partnerships, policy reforms, new programming, and organizational improvements.

Please note: Consideration should be given to the appropriate timing of data collection for each level of outcome. For example, satisfaction is usually captured as a short-term outcome, whereas behavior and institutional changes are normally considered longer-term outcomes. Overall, the quality of the monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

Describe plans for: Sustainability, overall program management, staffing, coordination with the Bureau and U.S. embassies or any other requirements, etc.

IV.3e. Please take the following information into consideration when preparing the budget:

IV.3e.1. Applicants must submit a comprehensive budget for the entire program. There must be a summary budget as well as breakdowns reflecting both administrative and program budgets. Applicants may provide separate sub-budgets for each program component, phase, location, or activity to provide clarification.

IV.3e.2. For allowable costs for the program, please refer to the Solicitation Package and POGI for complete budget guidelines and formatting instructions.

IV.3f. Submission Dates and Times: Application Deadline Date: May 20, 2005.

Explanation of Deadlines: In light of recent events and heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received at the Bureau more than seven days after the deadline will be ineligible for further consideration under this competition. Proposals shipped after the established deadlines are ineligible for consideration under this competition. It is each applicant's responsibility to ensure that each package is marked with a legible tracking number and to monitor/confirm delivery to the Bureau via the Internet. The Bureau will not notify applicants upon receipt of application. Delivery of proposal packages may not be made via local courier service or in person for this competition. Faxed documents will not be accepted at any time. Only proposals submitted as stated above will be considered. Applications may not be submitted electronically at this time. Applicants must follow all instructions in the Solicitation Package.

Important note: When preparing your submission please make sure to include one extra copy of the completed SF-424 form and place it in an envelope addressed to “ECA/EX/PM”.

The original and 15 copies of the application should be sent to: U.S. Department of State, SA-44, Bureau of Educational and Cultural Affairs, Ref.: ECA/A/L-06-01, Program Management, ECA/EX/PM, Room 534, 301 4th Street, SW., Washington, DC 20547.

Along with the Project Title, all applicants must enter the above Reference Number in Box 11 on the SF-424 contained in the mandatory Proposal Submission Instructions (PSI) of the solicitation document.

IV.3g. Intergovernmental Review of Applications: Executive Order 12372 does not apply to this program. Applicants must also submit the “Executive Summary” and “Proposal Narrative” sections of the proposal in text (.txt) format on a PC-formatted disk. The Bureau will provide these files electronically to the appropriate Public Affairs Section(s) at the U.S. embassy(ies) for embassy review.

V. Application Review Information

V.1. Review Process: The Bureau will review all proposals for technical eligibility. Proposals will be deemed ineligible if they do not fully adhere to the guidelines stated herein and in the Solicitation Package. All eligible proposals will be reviewed by the program office, as well as the Public Diplomacy section overseas where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for cooperative agreements resides with the Bureau's Grants Officer.

Review Criteria: Technically eligible applications will be competitively reviewed according to the criteria stated below. These criteria are not rank ordered and all carry equal weight in the proposal evaluation:

1. Quality of the program idea: Proposals should exhibit originality, substance, precision, and relevance to the Bureau's mission.

2. Program planning: Detailed agenda and relevant work plan should demonstrate substantive undertakings and logistical capacity. Agenda and plan should adhere to the program overview and guidelines described above.

3. Ability to achieve program objectives: Objectives should be reasonable, feasible, and flexible. Proposals should clearly demonstrate how the institution will meet the program's objectives and plan.

4. Multiplier effect/impact: Proposed programs should strengthen long-term mutual understanding, including maximum sharing of information and establishment of long-term institutional and individual linkages.

5. Support of Diversity: Proposals should demonstrate substantive support of the Bureau's policy on diversity. Achievable and relevant features should be cited in both program administration (selection of participants, program venue and program evaluation) and program content (orientation and wrap-up sessions, program meetings, resource materials and follow-up activities).

6. Institutional Capacity: Proposed personnel and institutional resources should be adequate and appropriate to achieve the program or project's goals.

7. Institution's Record/Ability: Proposals should demonstrate an institutional record of successful exchange programs management, including responsible fiscal management and full compliance with all reporting requirements for past Bureau grants as determined by Bureau Grants Staff. The Bureau will consider the past performance of prior recipients and the demonstrated potential of new applicants.

8. Follow-on Activities: Proposals should provide a plan for continued follow-on activity (without Bureau support) ensuring that Bureau supported programs are not isolated events.

9. Project Evaluation: Proposals should include a plan to evaluate the activity's success, both as the activities unfold and at the end of the program. A draft survey questionnaire or other technique plus description of a methodology to use to link outcomes to original project objectives are recommended.

10. Cost-effectiveness/Cost-sharing: The overhead and administrative components of the proposal, including salaries and honoraria, should be kept as low as possible. All other items should be necessary and appropriate. Proposals should maximize cost sharing through other private sector support as well as institutional direct funding contributions.

11. Value to U.S.-Partner Country Relations: Proposed projects should receive positive assessments by the U.S. Department of State's geographic area desk and overseas officers of program need, potential impact, and significance in the partner countries.

12. TEFL-TESL Background: Proposals should demonstrate a plan to network that allows for the greatest dissemination of information to the profession of Teachers of English as a Second or Foreign Language. Moreover, the applicant must be able to provide knowledgeable, experienced management staff with TEFL/TESL academic (Master's degree or above) qualifications capable of interviewing candidates and evaluating their teaching qualifications.

VI. Award Administration Information

VI.1a. Award Notices: Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the Bureau program office coordinating this competition.

VI.2 Administrative and National Policy Requirements: Terms and Conditions for the Administration of Bureau agreements include the following:

• Office of Management and Budget Circular A-122, “Cost Principles for Nonprofit Organizations.”

• Office of Management and Budget Circular A-21, “Cost Principles for Educational Institutions.”

• OMB Circular A-87, “Cost Principles for State, Local and Indian Governments.”

• OMB Circular No. A-110 (Revised), Uniform Administrative Requirements for Grants and Agreements with Institutions of Higher Education, Hospitals, and other Nonprofit Organizations.

• OMB Circular No. A-102, Uniform Administrative Requirements for Grants-in-Aid to State and Local Governments.

• OMB Circular No. A-133, Audits of States, Local Government, and Non-profit Organizations.

Please reference the following Web sites for additional information:

• http://www.whitehouse.gov/omb/grants.

• http://exchanges.state.gov/education/grantsdiv/terms.htm#articleI.

VI.3. Reporting Requirements: Grantee must provide Bureau with a hard copy original plus two copies of the following reports:

Interim Program Reporting: A report describing and evaluating the activities undertaken pursuant to this Agreement shall be submitted within 30 days following each calendar year quarter.

Interim Financial Reporting: A report reflecting expenditures against each line item set forth in Section C of Article III of the award document shall be submitted within 30 days following each calendar year quarter. The Recipient's Chief Fiscal Officer or an officer of comparable rank must certify this report.

Final Program Reporting: A report describing and evaluating the activities undertaken pursuant to this Agreement shall be submitted within ninety (90) days after the expiration date of this Agreement.

Final Financial Reporting: A report reflecting expenditures against each line item set forth in Section of Article III of the award document shall be submitted within ninety (90) days after the expiration date of this Agreement. This report must disclose cost sharing and be certified by the Recipient's Chief Fiscal Officer or an officer of comparable rank.

All data collected, including survey responses and contact information, must be maintained for a minimum of three years and provided to the Bureau upon request. All reports must be sent to the Bureau Grants Officer and the Bureau Program Officer listed in the final assistance award document.

Optional Program Data Requirements: Organizations awarded grants will be required to maintain specific data on program participants and activities in an electronically accessible database format that can be shared with the Bureau as required. As a minimum, the data must include the following:

(1) Name, address, contact information and biographic sketch of all persons who travel internationally on funds provided by the grant or who benefit from the grant funding but do not travel.

(2) Itineraries of international and domestic travel, providing dates of travel and cities in which any exchange experiences take place. Final schedules for in country and U.S. activities must be received by the Bureau Program Officer at least three working days prior to the official opening of the activity.

VII. Agency Contacts

For questions about this announcement, contact: Catherine Williamson, Office of English Language Programs, Programs Branch, U.S. Department of State, SA-44, 301 4th Street, SW., Washington, DC 20547, at (202) 619-5878 and fax: (202) 401-1250, e-mail: WilliamsonCJ@state.gov.

All correspondence with the Bureau concerning this RFGP should reference the above title and number ECA/A/L-06-01.

Please read the complete Federal Register announcement before sending inquiries or submitting proposals. Once the RFGP deadline has passed, Bureau staff may not discuss this competition with applicants until the proposal review process has been completed.

VIII. Other Information

Notice: The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: February 28, 2005.
C. Miller Crouch,
Principal Deputy Assistant Secretary, Bureau of Educational and Cultural Affairs, Department of State.

[FR Doc. 05-4721 Filed 3-9-05; 8:45 am]

BILLING CODE 4710-05-P